FEDERAL EMERGENCY MANAGEMENT AGENCY

44 CFR Part 67

[Docket No. FEMA-P-7607]

Proposed Flood Elevation Determinations

AGENCY: Federal Emergency Management Agency (FEMA).

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street, SW., Washington, DC 20472, (202) 646-3461 or (e-mail) matt.miller@fema.gov.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Acting Administrator for Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and record keeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 Proposed flood elevation determination.

2. The tables published under the authority of § 67.4 are proposed to be amended as follows:

Source of flooding and location of referenced elevation | *Elevation in feet (NGVD): Existing | *Elevation in feet (NGVD): Modified | Communities affected
Greenbrier Creek:
Approximately 200 feet downstream of the confluence of Little Greenbrier Creek | None | 288 | Town of Wooster, Faulkner County.
Approximately 7,100 feet upstream of the Town of Wooster corporate limits | None | 295 |
Greenbrier Creek Tributary No. 2:
At the mouth of Greenbrier Creek Tributary No. 2 | None | 288 | Town of Wooster, Faulkner County.
Approximately 1,350 feet upstream of Green Valley Road | None | 319 |
Greenbrier Creek Tributary No. 3:
At the mouth of Greenbrier Creek Tributary No. 3 | None | 288 | Town of Wooster.
Approximately 50 feet upstream of a private drive about 1,600 feet upstream of Reed Road | None | 325 |
Skyline Creek:
At the mouth of Skyline Creek | None | 292 | Town of Wooster, Faulkner County.
Approximately 725 feet upstream of Green Valley Road | None | 312 |
Maps are available for inspection at City Hall, 7 Reed Road, Wooster, Arkansas.
Send comments to The Honorable Johnnie D. Stone, Mayor, Town of Wooster, P.O. Box 43, Wooster, Arkansas 72181.
Maps are available for inspection at the Community Map Repository, 801 Locust Street, Conway, Arkansas.
Send coments to The Honorable John Wayne Carter, Judge, Faulkner County, 801 Locust Street, Conway, Arkansas 72032.
Peruque Creek:
Approximately 260 feet upstream of State Highway 79 | *453 | *452 | St. Charles County, City of O'Fallon, City of St. Paul.
Just downstream of Church Street | *535 | *533 | City of Lake St. Louis.
Maps are available for inspection at the County Administration Building, 201 North Second Street, Room 420, St. Charles, Missouri.
Send comments to Mr. Joe Ortwerth, St. Charles County Executive, 100 North Third Street, Suite 318, St. Charles, Missouri 63301.
Maps are available for inspection at City Hall, 138 South Main Street, O'Fallon, Missouri.
Send comments to The Honorable Paul Renaud, Mayor, City of O'Fallon, 100 North Main Street, O'Fallon, Missouri 63366.
Maps are available for inspection at City Hall, St. Paul, Missouri 63366.
Send comments to The Honorable Jay Sigmund, Mayor, City of St. Paul, 1265 Lydia Lane, St. Paul, Missouri 63366.
Maps are available for inspection at City Hall, 1000 Lake St. Louis Boulevard, Lake St. Louis, Missouri.
Send comments to The Honorable Michael Potter, Mayor, City of Lake St. Louis, 1000 Lake St. Louis Boulevard, #16, Lake St. Louis, Missouri 63367.
Cottonwood Creek:
Just upstream of SE 14th Street | *464 | *467 | City of Dallas, City of Grand Prairie.
Approximately 700 feet upstream of Great Southwest Parkway | *529 | *531 |
Duck Creek:
Approximately 600 feet downstream of Collins Road | *457 | *458 | City of Dallas, City of Garland, City of Mesquite, Town of Sunnyvale.
Just downstream of Beltline Road | *593 | *592 | Dallas County.
South Fork Cottonwood Creek:
Approximately 150 feet downstream of Carrier Parkway | *487 | *486 | City of Garland.
Just downstream of Great Southwest Parkway | *548 | *547 |
Stream 2C2:
At the mouth of Stream 2C2 | *496 | *494 | City of Grand Prairie.
Approximately 630 feet upstream of Glenbrook Drive | *496 | *495 |
Stream 8D1:
At the mouth of Stream 8D1 | *465 | *467 | City of Dallas, City of Grand Prairie.
Approximately 50 feet downstream of Belt Line Road | None | *489 |
Stream 8D3:
Approximately 300 feet downstream of Southeast 4th Street | *473 | *474 | City of Grand Prairie.
Approximately 75 feet downstream of South Center Street | None | *488 |
Stream 8D6:
At the mouth of Stream 8D6 | *504 | *505 | City of Grand Prairie.
Approximately 2,350 feet upstream of Arkansas Lane | None | *544 |
Stream 8D7:
Approximately 2,000 feet downstream of Sherman Street | *495 | *496 | City of Grand Prairie.
Approximately 50 feet downstream of Sherman Street | None | *512 |
Maps are available for inspection at the Administration Building, 411 Elm Street, 4th Floor, Dallas, Texas.
Send comments to The Honorable Lee F. Jackson, County Judge, Dallas County, Administration Building, 411 Elm Street, 2nd Floor, Dallas, Texas 75202.
Maps are available for inspection at 320 East Jefferson Boulevard, Dallas, Texas.
Send comments to The Honorable Ron Kirk, Mayor, City of Dallas, City Hall, 1500 Marilla Street, Dallas, Texas 75201-6390.
Maps are available for inspection at 200 North 5th Street, Garland, Texas.
Send comments to The Honorable Jim Spence, Mayor, City of Garland, 200 North 5th Street, P.O. Box 469002, Garland, Texas 75046-9002.
Maps are available for inspection at the City Development Center, 206 West Church Street, Grand Prairie, Texas.
Send comments to The Honorable Charles England, Mayor, City of Grand Prairie, 317 College Street, Grand Prairie, Texas 75053-4045.
Maps are available for inspection at 320 East Jefferson Boulevard, Dallas, Texas.
Send comments to The Honorable Mike Anderson, Mayor, City of Mesquite, P.O. Box 850137, Mesquite, Texas 75185-0137.
Maps are available for inspection at 537 Long Creek Road, Sunnyvale, Texas.
Send comments to The Honorable Jim Phaup, Mayor, Town of Sunnyvale, 537 Long Creek Road, Sunnyvale, Texas 75182.
*National Geodetic Vertical Datum

(Catalog of Federal Domestic Assistance No. 83.100, “Flood Insurance”)
Dated: June 18, 2002.
Robert F. Shea,
Acting Administrator, Federal Insurance and Mitigation Administration.

[FR Doc. 02-15934 Filed 6-25-02; 8:45 am]

BILLING CODE 6718-04-P